DEPARTMENT OF TRANSPORTATION

Federal Aviation Administration

14 CFR Part 39

[Docket No. FAA-2006-24081; Directorate Identifier 2006-CE-15-AD; Amendment 39-14623; AD 2006-11-18]

RIN 2120-AA64

Airworthiness Directives; Pacific Aerospace Corporation Ltd. Model 750XL Airplanes

AGENCY: Federal Aviation Administration (FAA), Department of Transportation (DOT).

ACTION: Final rule.

SUMMARY: We are adopting a new airworthiness directive (AD) for certain Pacific Aerospace Corporation Ltd. Model 750XL airplanes. This AD requires you to inspect the condition of the insulation of the wiring adjacent to the electrical plugs mounted in the left-hand (LH) and right-hand (RH) sides of the forward end of the cockpit center console for signs of abrasion and arcing. If you find any evidence of abrasion or arcing, this AD requires you to replace the affected wire(s) and secure the wires away from the back shells of the electrical plugs. This AD results from mandatory continuing airworthiness information (MCAI) issued by the airworthiness authority for New Zealand. We are issuing this AD to detect and correct damaged wires on the LH and RH sides of the forward end of the cockpit center console, which could result in short-circuiting of the related wiring. This could lead to electrical failure of affected systems and potential fire in the cockpit.

DATES: This AD becomes effective on July 14, 2006.

As of July 14, 2006, the Director of the Federal Register approved the incorporation by reference of certain publications listed in the regulation.

ADDRESSES: For service information identified in this AD, contact Pacific Aerospace Corporation Ltd., Hamilton Airport, Private Bag HN 3027, Hamilton, New Zealand; telephone: 011 (64) 7-843-6144; fax: 011 (64) 7-843-6134.

To view the AD docket, go to the Docket Management Facility; U.S. Department of Transportation, 400 Seventh Street, SW., Nassif Building, Room PL-401, Washington, DC 20590-001 or on the Internet at http://dms.dot.gov. The docket number is FAA-2006-24081; Directorate Identifier 2006-CE-15-AD.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

On March 20, 2006, we issued a proposal to amend part 39 of the Federal Aviation Regulations (14 CFR part 39) to include an AD that would apply to certain Pacific Aerospace Corporation Ltd. (Pacific Aerospace) Model 750XL airplanes. This proposal was published in the Federal Register as a notice of proposed rulemaking (NPRM) on March 27, 2006 (71 FR 15061). The NPRM proposed to require you to inspect the condition of the insulation of the wiring adjacent to the electrical plugs mounted in the left-hand (LH) and right-hand (RH) sides of the forward end of the cockpit center console for signs of abrasion and arcing. If you find any evidence of abrasion or arcing, the NPRM proposed to require you to replace the affected wire(s) and secure the wires away from the back shells of the electrical plugs.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 5 airplanes in the U.S. registry.

We estimate the following costs to do the inspection:

Labor cost | Parts cost | Total cost per airplane | Total cost on U.S. operators
4 workhours × $80 per hour = $320 | Not applicable | $320 | $320 × 5 = $1,600.

We estimate the following costs to do any necessary replacements that will be required based on the results of the inspection. We have no way of determining the number of airplanes that may need this replacement:

Labor cost | Parts cost | Total cost per airplane
28 workhours × $80 per hour = $2,240 | $200 | $2,440

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24081; Directorate Identifier 2006-CE-15-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2006-11-18 Pacific Aerospace Corporation Ltd.: Amendment 39-14623; Docket No. FAA-2006-24081; Directorate Identifier 2006-CE-15-AD.

Effective Date

(a) This AD becomes effective on July 14, 2006.

Affected ADs

(b) None.

Applicability

(c) This AD affects Model 750XL airplanes, serial numbers 110 through 120, that are certificated in any category.

Unsafe Condition

(d) This AD results from mandatory continuing airworthiness information (MCAI) issued by the airworthiness authority for New Zealand. We are issuing this AD to detect and correct damaged wires on the left-hand (LH) and right-hand (RH) sides of the forward end of the cockpit center console, which could result in short-circuiting of the related wiring. This condition could lead to electrical failure of affected systems and potential fire in the cockpit.

Compliance

(e) To address this problem, you must do the following, unless already done:

Action | Compliance | Procedures
(1) Inspect the condition of the insulation of the wiring adjacent to the electrical plugs mounted in the LH and RH sides of the forward end of the cockpit center console for signs of abrasion and arcing | Within the next 50 hours time-in-service after July 14, 2006 (the effective date of this AD) | Follow Pacific Aerospace Corporation Mandatory Service Bulletin No. PACSB/XL/016, Issue 1, Date Issued: September 23, 2005.
(2) If you find any evidence of abrasion or arcing during the inspection required in paragraph (e)(1) of this AD, replace the affected wire(s) and secure the wire(s) away from the back shells of the electrical plugs | Before further flight after the inspection required in paragraph (e)(1) of this AD | Follow Pacific Aerospace Corporation Mandatory Service Bulletin No. PACSB/XL/016, Issue 1, Date Issued: September 23, 2005.
(3) If you do not find any evidence of abrasion or arcing during the inspection required in paragraph (e)(1) of this AD, secure the wires away from the back shells of the electrical plugs | Before further flight after the inspection required in paragraph (e)(1) of this AD | Follow Pacific Aerospace Corporation Mandatory Service Bulletin No. PACSB/XL/016, Issue 1, Dated Issued: September 23, 2005.

Alternative Methods of Compliance (AMOCs)

(f) The Manager, Standards Office, Small Airplane Directorate, Federal Aviation Administration (FAA), ATTN: Karl Schletzbaum, Aerospace Engineer, FAA, Small Airplane Directorate, 901 Locust, Room 301, Kansas City, Missouri 64106; telephone: (816) 329-4146; fax: (816) 329-4090, has the authority to approve AMOCs for this AD, if requested using the procedures found in 14 CFR 39.19.

Related Information

(g) New Zealand AD No. DCA/750XL/6, Effective Date: December 1, 2005, also addresses the subject of this AD.

Material Incorporated by Reference

(h) You must do the actions required by this AD following the instructions in Pacific Aerospace Corporation Mandatory Service Bulletin No. PACSB/XL/016, Issue 1, Date Issued: September 23, 2005. The Director of the Federal Register approved the incorporation by reference of this service bulletin in accordance with 5 U.S.C. 552(a) and 1 CFR part 51. To get a copy of this service information, contact Pacific Aerospace Corporation Ltd., Hamilton Airport, Private Bag HN 3027, Hamilton, New Zealand; telephone: 011 (64) 7-843-6144; facsimile: 011 (64) 7-843-6134. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-24081; Directorate Identifier 2006-CE-15-AD.

Issued in Kansas City, Missouri, on May 24, 2006.
David R. Showers,
Acting Manager, Small Airplane Directorate, Aircraft Certification Service.

[FR Doc. 06-5047 Filed 6-2-06; 8:45 am]

BILLING CODE 4910-13-P